DEPARTMENT OF THE INTERIOR

Bureau of Land Management

[OR-958-6320-ET; HAG-01-0226; OR-53486]

Public Land Order No. 7413; Withdrawal of Public Lands for the Protection of Four Recreation Sites; Oregon

AGENCY: Bureau of Land Management, Interior.

ACTION: Correction.

SUMMARY: This action corrects an error in the legal description in Public Land Order No. 7413, 64 FR 54637-54638, published October 7, 1999, as FR Doc. 99-26186. On page 54638, paragraph 1, “T. 32 N., R., 2 W.”, is hereby corrected to read, “T. 30 S., R., 2 W.”.

Dated: July 2, 2001.
Robert D. DeViney, Jr.,
Chief, Branch of Realty and Records Services.

[FR Doc. 01-18767 Filed 7-26-01; 8:45 am]

BILLING CODE 4310-33-P